DEPARTMENT OF AGRICULTURE

Forest Service

Tuolumne County Resource Advisory Committee

AGENCY: Forest Service, USDA.

ACTION: Notice of meeting.

SUMMARY: The Tuolumne County Resource Advisory Committee (RAC) will meet on January 24, 2005 at the City of Sonora Fire Department, in Sonora, California. The purpose of the meeting is to review the Five-Year Vegetation management Plan, considerations for the leveraging of funds, and environmental requirements for non-Forest Service projects.

DATES: The meeting will be held January 24, 2005, from 12 p.m. to 3 p.m.

ADDRESSES: The meeting will be held at the City of Sonora Fire Department located at 201 South Shepherd Street, in Sonora, California (CA 95370)

FOR FURTHER INFORMATION CONTACT: Pat Kaunert, Committee Coordinator, USDA, Stanislaus National Forest, 19777 Greenley Road, Sonora, CA 95370 (209) 532-3671; E-mail pkauner@fs.fed.us.

SUPPLEMENTARY INFORMATION: Agenda items to be covered include: (1) Five-Year Vegetation Management Plan overview; (2) leveraging of funds for projects; (3) field trip needs/desires as related to showcasing projects; (4) concept paper regarding fuels reduction projects; (5) CEQA/NEPA environmental requirements for non-forest Service projects; and (6) public comment on meeting proceedings. This meeting is open to the public.

Dated: December 22, 2004.
Jerome E. Perez,
Deputy Forest Supervisor.

[FR Doc. 04-28657 Filed 12-30-04; 8:45 am]

BILLING CODE 3410-ED-M